DEPARTMENT OF ENERGY

Federal Energy Regulatory Commission

Combined Notice of Filings #1

Take notice that the Commission received the following electric rate filings:

Docket Numbers: ER18-459-002.

Applicants: Ohio Valley Electric Corporation, PJM Interconnection, L.L.C.

Description: Compliance filing: Compliance Filing RE: OATT, OA and RAA OVEC Integration Effective Date to be effective 12/1/2018.

Filed Date: 7/12/18.

Accession Number: 20180712-5087.

Comments Due: 5 p.m. ET 8/2/18.

Docket Numbers: ER18-460-002.

Applicants: Ohio Valley Electric Corporation, PJM Interconnection, L.L.C.

Description: Compliance filing: Compliance Filing RE: CTOA OVEC Integration Effective Date to be effective 12/1/2018.

Filed Date: 7/12/18.

Accession Number: 20180712-5092.

Comments Due: 5 p.m. ET 8/2/18.

Docket Numbers: ER18-2004-000.

Applicants: Southwest Power Pool, Inc.

Description: § 205(d) Rate Filing: 3461 Mid-Kansas and City of Anthony, KS Interconnection Agr to be effective 6/29/2018.

Filed Date: 7/12/18.

Accession Number: 20180712-5007.

Comments Due: 5 p.m. ET 8/2/18.

Docket Numbers: ER18-2005-000.

Applicants: PJM Interconnection, L.L.C.

Description: Tariff Cancellation: Notice of Cancellation of Service Agreement No. 4411; Queue No. AA1-059 to be effective 7/23/2018.

Filed Date: 7/12/18.

Accession Number: 20180712-5036.

Comments Due: 5 p.m. ET 8/2/18.

Docket Numbers: ER18-2006-000.

Applicants: Interstate Power and Light Company, MidAmerican Energy Company.

Description: § 205(d) Rate Filing: IPL—MEC Remote LBA Agreement to be effective 9/10/2018.

Filed Date: 7/12/18.

Accession Number: 20180712-5066.

Comments Due: 5 p.m. ET 8/2/18.

Docket Numbers: ER18-2008-000.

Applicants: PacifiCorp.

Description: § 205(d) Rate Filing: Tri-State Construct Agmt ? Monolith Tap IC Rev 2 to be effective 9/11/2018.

Filed Date: 7/12/18.

Accession Number: 20180712-5096.

Comments Due: 5 p.m. ET 8/2/18.

Docket Numbers: ER18-2009-000.

Applicants: Southwest Power Pool, Inc.

Description: § 205(d) Rate Filing: Revisions to Attachment AE to Enhance Regulation Deployment of DVERs to be effective 12/18/2018.

Filed Date: 7/12/18.

Accession Number: 20180712-5102.

Comments Due: 5 p.m. ET 8/2/18.

Docket Numbers: ER18-2010-000.

Applicants: Old Dominion Electric Cooperative.

Description: Tariff Cancellation: ODEC Notice of Cancellation of Rate Schedule and Request for Waiver to be effective 12/31/9998.

Filed Date: 7/12/18.

Accession Number: 20180712-5119.

Comments Due: 5 p.m. ET 8/2/18.

Docket Numbers: ER18-2011-000.

Applicants: Terra-Gen Dixie Valley, LLC.

Description: Tariff Cancellation: Notice of Cancellation to be effective 7/13/2018.

Filed Date: 7/12/18.

Accession Number: 20180712-5128.

Comments Due: 5 p.m. ET 8/2/18.

Docket Numbers: ER18-2013-000.

Applicants: Terra-Gen Dixie Valley, LLC.

Description: Baseline eTariff Filing: MBR Application to be effective 7/13/2018.

Filed Date: 7/12/18.

Accession Number: 20180712-5171.

Comments Due: 5 p.m. ET 8/2/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 12, 2018.
Kimberly D. Bose,
Secretary.

[FR Doc. 2018-15493 Filed 7-19-18; 8:45 am]

BILLING CODE 6717-01-P